DEPARTMENT OF TRANSPORTATION

Federal Aviation Administration

14 CFR Part 97

[Docket No. 30723; Amdt. No 3372]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 10, 2010. The compliance date for each SIAP, associated Takeoff Minimums, and ODP is specified in the amendatory provisions.

The incorporation by reference of certain publications listed in the regulations is approved by the Director of the Federal Register as of May 10, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 30, 2010.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 3 JUN 2010

Jacksson, AL, Takeoff Minimums and Obstacle DP, Orig

Tuscaloosa, AL, Tuscaloosa Rgnl, RNAV (GPS) RWY 22, Amdt 1

Phoenix, AZ, Phoenix, Deer Valley, RNAV (GPS) RWY 7R, Amdt 1

Willcox, AZ, Cochise County, GPS RWY 21, Orig, CANCELLED

Willcox, AZ, Cochise County, GPS-A, Orig, CANCELLED

Willcox, AZ, Cochise County, RNAV (GPS) RWY 3, Orig

Willcox, AZ, Cochise County, RNAV (GPS) RWY 21, Orig

Little River, CA, Little River, LITTLE RIVER ONE Graphic Obstacle DP

Little River, CA, Little River, Takeoff Minimums and Obstacle DP, Orig

Windsor Locks, CT, Bradley, RNAV (RNP) Z RWY 15, Orig

Fort Lauderdale, FL, Fort Lauderdale/Hollywood Intl, RNAV (GPS) RWY 27L, Orig-A

Honolulu, HI, Honolulu Intl, ILS RWY 8L, Amdt 22

Honolulu, HI, Honolulu Intl, LOC RWY 8L, Orig

Lanai City, HI, Lanai, ILS OR LOC/DME RWY 3, Amdt 1

Forest City, IA, Forest City Muni, VOR/DME-A, Amdt 3

Fort Dodge, IA, Fort Dodge Rgnl, ILS or LOC RWY 6, Amdt 7A

Lewiston, ID, Lewiston-Nez Perce County, RNAV (GPS) Y RWY 8, Amdt 1A

Lewiston, ID, Lewiston-Nez Perce County, RNAV (GPS) Y RWY 12, Amdt 1A

Lewiston, ID, Lewiston-Nez Perce County, RNAV (GPS) Y RWY 26, Orig-A

Lewiston, ID, Lewiston-Nez Perce County, RNAV (RNP) RWY 30, Orig

Lewiston, ID, Lewiston-Nez Perce County, RNAV (RNP) Z RWY 8, Orig

Lewiston, ID, Lewiston-Nez Perce County, RNAV (RNP) Z RWY 12, Orig

Lewiston, ID, Lewiston-Nez Perce County, RNAV (RNP) Z RWY 26, Orig

Alton/St Louis, IL, St Louis Rgnl, RNAV (GPS) RWY 11, Amdt 1

Chicago/Romeoville, IL, Lewis University, LOC RWY 2, Amdt 1

Chicago/Romeoville, IL, Lewis University, RNAV (GPS) RWY 2, Amdt 1

Chicago/Romeoville, IL, Lewis University, RNAV (GPS) RWY 20, Amdt 1

Effingham, IL, Effingham County Memorial, RNAV (GPS) RWY 1, Orig

Effingham, IL, Effingham County Memorial, VOR RWY 1, Amdt 10

Joliet, IL, Joliet Rgnl, RNAV (GPS) RWY 13, Orig

Joliet, IL, Joliet Rgnl, VOR RWY 13, Amdt 12

Shelbyville, IL, Shelby County, NDB-A, Amdt 2

Shelbyville, IL, Shelby County, RNAV (GPS) RWY 36, Orig

Springfield, IL, Abraham Lincoln Capital, ILS OR LOC RWY 22, Amdt 9

Springfield, IL, Abraham Lincoln Capital, RNAV (GPS) RWY 13, Amdt 1

Springfield, IL, Abraham Lincoln Capital, VOR/DME RWY 4, Orig

Springfield, IL, Abraham Lincoln Capital, VOR/DME RWY 13, Orig

Springfield, IL, Abraham Lincoln Capital, VOR/DME RWY 31, Orig

Auburn, IN, De Kalb County, ILS OR LOC RWY 27, Amdt 1B

Crawfordsville, IN, Crawfordsville Muni, GPS RWY 4, Orig-A, CANCELLED

Crawfordsville, IN, Crawfordsville Muni, RNAV (GPS) RWY 4, Orig

Crawfordsville, IN, Crawfordsville Muni, RNAV (GPS) RWY 22, Orig

Kendallville, IN, Kendallville Muni, GPS RWY 28, Orig-A, CANCELLED

Kendallville, IN, Kendallville Muni, RNAV (GPS) RWY 28, Orig

Augusta, KS, Augusta Muni, Takeoff Minimums and Obstacle DP, Orig

Coffeyville, KS, Coffeyville Muni, VOR/DME RNAV RWY 35, Amdt 3B, CANCELLED

Elkhart, KS, Elkhart-Morton County, NDB RWY 35, Amdt 2

Elkhart, KS, Elkhart-Morton County, RNAV (GPS) RWY 4, Amdt 1

Elkhart, KS, Elkhart-Morton County, RNAV (GPS) RWY 17, Amdt 1

Elkhart, KS, Elkhart-Morton County, RNAV (GPS) RWY 22, Amdt 1

Elkhart, KS, Elkhart-Morton County, RNAV (GPS) RWY 35, Amdt 1

Elkhart, KS, Elkhart-Morton County, Takeoff Minimums and Obstacle DP, Amdt 1

Great Bend, KS, Great Bend Muni, RNAV (GPS) RWY 17, Orig

Wichita, KS, Wichita Mid-Continent, RNAV (GPS) RWY 14, Amdt 1

Wichita, KS, Wichita Mid-Continent, RNAV (GPS) RWY 32, Amdt 1

Mayfield, KY, Mayfield Graves County, GPS RWY 36, Orig, CANCELLED

Mayfield, KY, Mayfield Graves County, RNAV (GPS) RWY 18, Orig

Mayfield, KY, Mayfield Graves County, RNAV (GPS) RWY 36, Orig

Mayfield, KY, Mayfield Graves County, Takeoff Minimums and Obstacle DP, Amdt 2

Mayfield, KY, Mayfield Graves County, VOR/DME-A, Amdt 8

Mayfield, KY, Mayfield Graves County, VOR/DME RNAV OR GPS RWY 18, Amdt 3, CANCELLED

Owensboro, KY, Owensboro-Daviess County, ILS OR LOC RWY 36, Amdt 12

Owensboro, KY, Owensboro-Daviess County, RNAV (GPS) RWY 18, Amdt 1

Owensboro, KY, Owensboro-Daviess County, RNAV (GPS) RWY 23, Amdt 1

Owensboro, KY, Owensboro-Daviess County, RNAV (GPS) RWY 36, Amdt 3

Owensboro, KY, Owensboro-Daviess County, VOR RWY 36, Amdt 18

Sturgis, KY, Sturgis Muni, NDB OR GPS RWY 36, Amdt 6, CANCELLED

Sturgis, KY, Sturgis Muni, RNAV (GPS) RWY 18, Orig

Sturgis, KY, Sturgis Muni, RNAV (GPS) RWY 36, Orig

Sturgis, KY, Sturgis Muni, Takeoff Minimums and Obstacle DP, Amdt 3

Galliano, LA, South Lafourche Leonard Miller Jr, LOC/DME RWY 36, Orig

New Orleans, LA, Louis Armstrong New Orleans Intl, ILS OR LOC RWY 28, Amdt 7A

Worcester, MA, Worcester Rgnl, GPS RWY 33, Amdt 1B, CANCELLED

Worcester, MA, Worcester Rgnl, RNAV (GPS) RWY 33, Orig

Fort Mead (Odenton), MD, Tipton, RNAV (GPS) RWY 28, Amdt 1

Pittsfield, ME, Pittsfield Muni, GPS RWY 19, Orig, CANCELLED

Pittsfield, ME, Pittsfield Muni, NDB RWY 36, Amdt 4

Pittsfield, ME, Pittsfield Muni, RNAV (GPS) RWY 18, Orig

Pittsfield, ME, Pittsfield Muni, RNAV (GPS) RWY 36, Orig

Pittsfield, ME, Pittsfield Muni, Takeoff Minimums and Obstacle DP, Amdt 2

Wiscasset, ME, Wiscasset, GPS RWY 7, Amdt 1A, CANCELLED

Wiscasset, ME, Wiscasset, GPS RWY 25, Amdt 1, CANCELLED

Wiscasset, ME, Wiscasset, RNAV (GPS) RWY 7, Orig

Wiscasset, ME, Wiscasset, RNAV (GPS) RWY 25, Orig

Wiscasset, ME, Wiscasset, Takeoff Minimums and Obstacle DP, Amdt 2

Alpena, MI, Alpena County Rgnl, RNAV (GPS) RWY 19, Orig

Alpena, MI, Alpena County Rgnl, VOR RWY 19, Amdt 15

Oscoda, MI, Oscoda-Wurtsmith, RNAV (GPS) RWY 6, Amdt 1

Baudette, MN, Baudette Intl, ILS OR LOC/DME RWY 30, Orig

Baudette, MN, Baudette Intl, RNAV (GPS) RWY 12, Amdt 1

Baudette, MN, Baudette Intl, RNAV (GPS) RWY 30, Amdt 2

Duluth, MN, Duluth Intl, COPTER ILS OR LOC RWY 27, Amdt 1

Duluth, MN, Duluth Intl, GPS RWY 21, Orig-A, CANCELLED

Duluth, MN, Duluth Intl, ILS OR LOC RWY 9, ILS RWY 9 (CAT II), Amdt 21

Duluth, MN, Duluth Intl, ILS OR LOC RWY 27, Amdt 9

Duluth, MN, Duluth Intl, RNAV (GPS) RWY 3, Orig

Duluth, MN, Duluth Intl, RNAV (GPS) RWY 21, Orig

Duluth, MN, Duluth Intl, VOR OR TACAN RWY 3, Amdt 20

Luverne, MN, Quentin Aanenson Field, RNAV (GPS) RWY 18, Orig

Luverne, MN, Quentin Aanenson Field, RNAV (GPS) RWY 36, Orig

Luverne, MN, Quentin Aanenson Field, Takeoff Minimums and Obstacle DP, Orig

Minneapolis, MN, Airlake, Takeoff Minimums and Obstacle DP, Orig

Minneapolis, MN, Airlake, VOR RWY 12, Amdt 2

Red Wing, MN, Red Wing Rgnl, RNAV (GPS) RWY 27, Amdt 1

Monroe City, MO, Capt. Ben Smith Airfield-Monroe City Airport, VOR/DME RNAV RWY 27, Amdt 1, CANCELLED

Columbus/W PT/Starkville, MS, Golden Triangle Rgnl, LOC/DME RWY 36, Orig

Albemarle, NC, Stanly County, GPS RWY 4R, Orig-C, CANCELLED

Albemarle, NC, Stanly County, ILS OR LOC RWY 22L, Amdt 1

Albemarle, NC, Stanly County, NDB RWY 22L, Amdt 1

Albemarle, NC, Stanly County, RNAV (GPS) RWY 4R, Orig

Albemarle, NC, Stanly County, RNAV (GPS) RWY 22L, Orig

Rockingham, NC, Richmond County, GPS RWY 31, Orig-A, CANCELLED

Rockingham, NC, Richmond County, NDB RWY 32, Amdt 3B

Rockingham, NC, Richmond County, RNAV (GPS) RWY 32, Orig

Rockingham, NC, Richmond County, Takeoff Minimums and Obstacle DP, Amdt 2

Bottineau, ND, Bottineau Muni, GPS RWY 31, Orig-A, CANCELLED

Bottineau, ND, Bottineau Muni, RNAV (GPS) RWY 31, Orig

Bottineau, ND, Bottineau Muni, Takeoff Minimums and Obstacle DP, Amdt 1

Crosby, ND, Crosby Muni, GPS RWY 30, Orig, CANCELLED

Crosby, ND, Crosby Muni, RNAV (GPS) RWY 30, Orig

Crosby ND, Crosby Muni, Takeoff Minimums and Obstacle DP, Orig

Devils Lake, ND, Devils Lake Rgnl, RNAV (GPS) RWY 13, Orig-A

Devils Lake, ND, Devils Lake Rgnl, RNAV (GPS) RWY 21, Orig

Grand Forks, ND, Grand Forks Intl, LOC BC RWY 17R, Amdt 13

Hettinger, ND, Hettinger Muni, GPS RWY 30, Amdt 1, CANCELLED

Hettinger, ND, Hettinger Muni, RNAV (GPS) RWY 30, Orig

Kindred, ND, Hamry Field, RNAV (GPS) RWY 11, Orig

Kindred, ND, Hamry Field, RNAV (GPS) RWY 29, Orig

Langdon, ND, Robertson Field, RNAV (GPS) RWY 14, Orig

Langdon, ND, Robertson Field, RNAV (GPS) RWY 32, Orig

Langdon, ND, Robertson Field, Takeoff Minimums and Obstacle DP, Orig

Keene, NH, Dillant-Hopkins, ILS OR LOC RWY 2, Amdt 4

Keene, NH, Dillant-Hopkins, VOR RWY 2, Amdt 13

Gallup, NM, Gallup Muni, RNAV (GPS) RWY 6, Amdt 2

Fallon, NV, Fallon Muni, RNAV (GPS)-C, Orig

Fallon, NV, Fallon Muni, Takeoff Minimums and Obstacle DP, Amdt 1

Fallon, NV, Fallon Muni, VOR/DME-B, Amdt 4

Newburgh, NY, Steward Intl, ILS OR LOC RWY 27, Amdt 1

Newburgh, NY, Steward Intl, RNAV (GPS) RWY 9, Amdt 1

Newburgh, NY, Steward Intl, RNAV (GPS) RWY 27, Amdt 1

Newburgh, NY, Steward Intl, VOR RWY 27, Amdt 5

Rome, NY, Griffiss Intl, ILS RWY 15, Orig-A, CANCELLED

Rome, NY, Griffiss Intl, ILS OR LOC RWY 33, Amdt 1

Rome, NY, Griffiss Intl, RNAV (GPS) RWY 15, Amdt 1

Rome, NY, Griffiss Intl, RNAV (GPS) RWY 33, Amdt 1

Williamson/Sodus, NY, Williamson-Sodus, RNAV (GPS) RWY 28, Amdt 2

Bryan, OH, Williams County, GPS RWY 7, Orig, CANCELLED

Bryan, OH, Williams County, GPS RWY 25, Orig, CANCELLED

Bryan, OH, Williams County, NDB-A, Amdt 7

Bryan, OH, Williams County, RNAV (GPS) RWY 7, Orig

Bryan, OH, Williams County, RNAV (GPS) RWY 25, Orig

Bryan, OH, Williams County, Takeoff Minimums and Obstacle DP, Orig

East Liverpool, OH, Columbiana County, GPS RWY 25, Orig, CANCELLED

East Liverpool, OH, Columbiana County, RNAV (GPS) RWY 25, Orig

Millersburg, OH, Holmes County, Takeoff Minimums and Obstacle DP, Amdt 1

Steubenville, OH, Jefferson County Airpark, GPS RWY 14, Orig, CANCELLED

Steubenville, OH, Jefferson County Airpark, GPS RWY 32, Orig, CANCELLED

Steubenville, OH, Jefferson County Airpark, RNAV (GPS) RWY 14, Orig

Steubenville, OH, Jefferson County Airpark, RNAV (GPS) RWY 32, Orig

Youngstown, OH, Youngstown Elser Metro, GPS RWY 10, Orig-B, CANCELLED

Youngstown, OH, Youngstown Elser Metro, GPS RWY 28, Orig-B, CANCELLED

Youngstown, OH, Youngstown Elser Metro, RNAV (GPS) RWY 10, Orig

Youngstown, OH, Youngstown Elser Metro, RNAV (GPS) RWY 28, Orig

Youngstown, OH, Youngstown Elser Metro, VOR-C, Amdt 2

Pauls Valley, OK, Pauls Valley, RNAV (GPS) RWY 35, Amdt 1

Pauls Valley, OK, Pauls Valley, Takeoff Minimums and Obstacle DP, Orig

Woodward, OK, West Woodward, VOR/DME-A, Amdt 7

Gettysburg, PA, Gettysburg Rgnl, RNAV (GPS)-A, Orig

Gettysburg, PA, Gettysburg Rgnl, Takeoff Minimums and Obstacle DP, Orig

Washington, PA, Washington County, VOR-B, Amdt 7, CANCELLED

Orangeburg, SC, Orangeburg Muni, NDB RWY 5, Amdt 1, CANCELLED

Orangeburg, SC, Orangeburg Muni, RNAV (GPS) RWY 5, Amdt 1

Orangeburg, SC, Orangeburg Muni, RNAV (GPS) RWY 23, Amdt 1

Orangeburg, SC, Orangeburg Muni, RNAV (GPS) RWY 35, Amdt 1

Athens, TN, McMinn County, NDB RWY 2, Amdt 6

Athens, TN, McMinn County, NDB RWY 20, Amdt 7

Athens, TN, McMinn County, RNAV (GPS) RWY 2, Orig

Athens, TN, McMinn County, RNAV (GPS) RWY 20, Amdt 1

Athens, TN, McMinn County, Takeoff Minimums and Obstacle DP, Amdt 1

Clarksville, TN, Outlaw Field, RNAV (GPS) RWY 17, Orig

Lafayette, TN, Lafayette Muni, RNAV (GPS) RWY 1, Orig

Lafayette, TN, Lafayette Muni, RNAV (GPS) RWY 19, Amdt 1

Follett, TX, Follet-Lipscomb County, RNAV (GPS) RWY 35, Orig,

Follett, TX, Follet-Lipscomb County, Takeoff Minimums and Obstacle DP, Orig

Follett, TX, Follet-Lipscomb County, VOR/DME-A, Amdt 3

Grayford, TX, Possum Kingdom, Takeoff Minimums and Obstacle DP, Orig-A

Lubbock, TX, Lubbock Preston Smith Inthl, RADAR-1, Amdt 7, CANCELLED

Farmville, VA, Farmville Rgnl, Takeoff Minimums and Obstacle DP, Amdt 1

Wise, VA, Lonesome Pine, LOC/DME RWY 24, Orig-A

Barre/Montpelier, VT, Edward F. Knapp State, RNAV (GPS) RWY 17, Orig-A

Richland, WA, Richland, Takeoff Minimums and Obstacle DP, Orig

Appleton, WI, Outagamie County Rgnl, ILS OR LOC RWY 30, Amdt 3

Appleton, WI, Outagamie County Rgnl, RNAV (GPS) RWY 12, Amdt 1

Appleton, WI, Outagamie County Rgnl, RNAV (GPS) RWY 21, Amdt 2

Appleton, WI, Outagamie County Rgnl, RNAV (GPS) RWY 30, Amdt 1

Appleton, WI, Outagamie County Rgnl, Takeoff Minimums and Obstacle DP, Orig

Janesville, WI, Southern Wisconsin Rgnl, RNAV (GPS) RWY 4, Amdt 1

Janesville, WI, Southern Wisconsin Rgnl, RNAV (GPS) RWY 14, Amdt 1

Janesville, WI, Southern Wisconsin Rgnl, RNAV (GPS) RWY 22, Amdt 1

Manitowish Waters, WI, Manitowish Waters, GPS RWY 32, Orig-B, CANCELLED

Manitowish Waters, WI, Manitowish Waters, NDB RWY 32, Orig-A, CANCELLED

Manitowish Waters, WI, Manitowish Waters, RNAV (GPS) RWY 14, Orig

Manitowish Waters, WI, Manitowish Waters, RNAV (GPS) RWY 32, Orig

Superior, WI, Richard I Bong, NDB RWY 31, Amdt 4A, CANCELLED

On April 15, 2010 (75 FR 19542) the FAA published an Amendment in Docket No. 30716, Amdt 3366 to Part 97 of the Federal Aviation Regulations under section 97.23 and 97.33. The following entries effective 3 June 2010 are hereby rescinded:

Kutztown, PA, Kutztown, RNAV (GPS)-A, Orig, CANCELLED

Kutztown, PA, Kutztown, Takeoff Minimums and Obstacle DP, Orig, CANCELLED

Kutztown, PA, Kutztown, VOR-B, Amdt 1B, CANCELLED

On April 28, 2010 (75 FR 22217) the FAA published an Amendment in Docket No. 30720, Amdt 3370 to Part 97 of the Federal Aviation Regulations under section 97.23 and 97.33. The following entry effective 3 June 2010 is hereby rescinded:

Fostoria, OH, Fostoria Metropolitan, RNAV (GPS) RWY 27, Amdt 1

[FR Doc. 2010-10708 Filed 5-7-10; 8:45 am]

BILLING CODE 4910-13-P